DEPARTMENT OF ENERGY

Federal Energy Regulatory Commission

[Docket No. CP20-492-000]

Enable Gas Transmission, LLC; Notice of Request Under Blanket Authorization

Take notice that on July 2, 2020, Enable Gas Transmission, LLC (EGT), 910 Louisiana Street, Ste. 48040 (48th Floor), Houston, Texas 77002, filed in the above referenced docket a prior notice request pursuant to sections 157.205, 157.208, and 157.211 of the Commission's regulations under the Natural Gas Act and EGT's blanket certificate issued in Docket Nos. CP82-384-000 and CP82-384-001 for authorization to: (i) Install a new 1,080-foot-long, 3-inch-diameter pipeline, to be named Line OT-38, that will provide transportation service from a new tap on EGT's existing Line OT-27 to a new meter location; and (ii) install a new meter location, to be named the Roland Meter, which will be sited within an existing town border station owned and operated by the Roland Development Authority. This project is a replacement for a similar request in Docket No. CP19-151-000 which has been requested to be vacated because the previous location has proved to be unsuitable. The project is located near the Town of Roland in Sequoyah County, Oklahoma, all as more fully set forth in the application which is on file with the Commission and open to public inspection.

The filing is available for review on the Commission's website web at http://www.ferc.gov using the “eLibrary” link. Enter the docket number excluding the last three digits in the docket number field to access the document. For assistance, contact FERC at FERCOnlineSupport@ferc.gov or call toll-free, (866) 208-3676 or TYY, (202) 502-8659. At this time, the Commission has suspended access to the Commission's Public Reference Room, due to the proclamation declaring a National Emergency concerning the Novel Coronavirus Disease (COVID-19), issued by the President on March 13, 2020.

Any questions concerning this application may be directed to Lisa Yoho, Sr. Director Regulatory and FERC Compliance, Enable Gas Transmission, LLC, 910 Louisiana St., 48th Floor, Houston, Texas 77002, at (346) 701-2539, or at lisa.yoho@enablemidstream.com.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

Persons who wish to comment only on the environmental review of this project should submit an original and two copies of their comments to the Secretary of the Commission. Environmental commenter's will be placed on the Commission's environmental mailing list and will be notified of any meetings associated with the Commission's environmental review process. Environmental commenter's will not be required to serve copies of filed documents on all other parties. However, the non-party commenters, will not receive copies of all documents filed by other parties or issued by the Commission and will not have the right to seek court review of the Commission's final order.

In addition to publishing the full text of this document in the Federal Register, the Commission provides all interested persons an opportunity to view and/or print the contents of this document via the internet through the Commission's Home Page (http://ferc.gov) using the “eLibrary” link. Enter the docket number excluding the last three digits in the docket number field to access the document. For assistance, contact the Federal Energy Regulatory Commission at FERCOnlineSupport@ferc.gov or call toll-free, (886) 208-3676 or TYY, (202) 502-8659.

The Commission strongly encourages electronic filings of comments, protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Dated: July 10, 2020.
Kimberly D. Bose,
Secretary.

[FR Doc. 2020-15357 Filed 7-15-20; 8:45 am]

BILLING CODE 6717-01-P